DEPARTMENT OF ENERGY

Federal Energy Regulatory Commission

[Docket Nos. RP97-369-016 and RP98-39-023]

Northern Natural Gas Company; Notice of Distribution of Refunds Paid

May 24, 2001.

Take notice that on May 18, 2001, Northern Natural Gas Company (Northern) submitted worksheets reflecting the distribution of refunds paid to jurisdictional sales customers on February 9, 2001.

Northern states that these refunds are being made pursuant to the Commission's Order in Public Service Company of Colorado, et al., Docket Nos. RP97-369-000, et al., and the Commission's Order Approving Settlement in Northern Natural Gas Company, Docket No. RP98-39-000.

Northern states that a copy of this report is being mailed to each of Northern's affected jurisdictional sales customers and state commissions.

Any person desiring to protest said filing should file a protest with the Federal Energy Regulatory Commission, 888 First Street, NE., Washington, DC 20426, in accordance with Section 385.211 of the Commission's Rules and Regulations. All such protests must be filed on or before June 1, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-13598 Filed 5-30-01; 8:45 am]

BILLING CODE 6717-01-M